DEPARTMENT OF THE INTERIOR

Bureau of Ocean Energy Management

[OMB Number 1010—New; MMAA104000]

Information Collection: Atlantic Offshore Wind Energy Development—Public Attitudes, Values, and Implications for Tourism and Recreation; Submitted for OMB Review; Comment Request

ACTION: 30-day notice.

SUMMARY: To comply with the Paperwork Reduction Act of 1995 (PRA), the Bureau of Ocean Energy Management (BOEM) is notifying the public that we have submitted an information collection request (ICR) to the Office of Management and Budget (OMB) for review and approval. The ICR concerns a new survey on the potential impacts of Atlantic offshore wind energy development on coastal tourism and recreation. This notice provides the public a second opportunity to comment on the paperwork burden of this collection.

DATES: Submit written comments by November 16, 2015.

ADDRESSES: Submit comments on this ICR to the Desk Officer for the Department of the Interior at OMB-OIRA at (202) 395-5806 (fax) or OIRA_submission@omb.eop.gov (email). Please provide a copy of your comments to the BOEM Information Collection Clearance Officer, Kye Mason, Bureau of Ocean Energy Management, 45600 Woodland Road, Sterling, Virginia 20166 (mail) or kye.mason@boem.gov (email). Please reference ICR 1010-New in your comment and include your name and return address.

FOR FURTHER INFORMATION CONTACT: Kye Mason, Office of Policy, Regulations, and Analysis at kye.mason@boem.gov (email) or (703) 787-1025 (phone). You may review the ICR online at http://www.reginfo.gov. Follow the instructions to review Department of the Interior collections under review by OMB.

SUPPLEMENTARY INFORMATION:

OMB Control Number: 1010—New.

Title: Atlantic Offshore Wind Energy Development: Public Attitudes, Values, and Implications for Tourism and Recreation.

Abstract: Under the Outer Continental Shelf (OCS) Lands Act (43 U.S.C. 1331-1356), BOEM is responsible for conducting OCS lease sales and for monitoring and mitigating adverse impacts that might be associated with offshore energy development. The Energy Policy Act of 2005 (42 U.S.C. 13201 et seq.) authorizes the Secretary of the Interior to issue leases, easements, and rights-of-way for offshore renewable energy activities in Federal waters, such as offshore wind power development. In fulfilling these responsibilities, BOEM must take into consideration the impacts of OCS activities on recreational resources. While we have seen significant interest in offshore wind power development in recent years, the absence of baseline data for specific areas along the Atlantic coast and the absence of a broader regional study on tourism and wind power have made it difficult to identify and analyze the potential impacts of offshore wind development on coastal tourism and recreation. Additional information on these potential impacts will contribute to better planning and decision making for BOEM and other stakeholders, including other Federal agencies and State and local governments.

Under a cooperative agreement awarded by the Department of the Interior, the University of Delaware will conduct a survey to assess the impact of offshore wind power projects on coastal recreation and tourism from Massachusetts to South Carolina. The survey will gauge public perceptions of offshore wind energy projects and how development could impact future recreation and visitation choices. BOEM will use this information, along with other economic and environmental information, in our offshore wind decision making process and marine spatial planning efforts. States and coastal communities will use the information for local coastal planning efforts.

The data collection will be done by an Internet-based survey. We decided to use an internet-based approach in part to improve the images respondents are shown. The internet also allows us to easily accommodate different skip patterns and variation in wind projects shown to respondents.

Frequency: One time.

Description of Respondents: Individuals.

Total Annual Burden Hours
Activity | Annual number of responses | Average completion time per person (minutes) | Total annual burden hours
General Population Sample
Non-respondents & Dropouts | 88 | 2 | 3
Respondents | 500 | 15 | 125
Total | 588 | 17 | 128
Beachgoer-Only Sample
Non-respondents & Dropouts | 3,778 | 3 | 189
Respondents | 1,600 | 15 | 400
Total | 5,378 | 18 | 589
Overall Total | 5,966 |  | 717

Estimated Reporting and Recordkeeping Non-hour Cost Burden: We have not identified any non-hour cost burdens for this collection.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

To comply with the public consultation process, on July 1, 2014, BOEM published a Federal Register notice (79 FR 37348) announcing that we would submit this ICR to OMB for approval. This notice provided the required 60-day comment period. We received comments from one person.

Comment: The location of residence (primary or secondary) should be given as a zip code. The zip code then determines the city, State, and distance to beach. There is no need for the respondent to guess what the distance is.

Response: The distance question has been deleted.

Comment: Offshore wind farms is a mature technology. A simple google image search shows a variety of real photos of wind farms off Denmark and the UK. Consider the use of real pictures in place of simulated offshore wind turbines.

Response: We are particularly interested in the impact on beach use and tourism of wind projects at different distances offshore. It is not feasible to find pictures of existing projects at different distances while keeping other features constant (e.g., number of turbines, size of turbines, beach appearance, production quality for presentation on the Internet, etc.). The simulations allow us to “move wind projects” to different distances holding all other features constant. We also are interested in specific turbine sizes (larger than most of the existing ones) and turbine numbers (also larger than most existing projects). We also want to use beaches on the Atlantic coast for our shots. The coastlines in Europe where turbines exist are very different from the coastline in the United States.

Comment: The geology of the Atlantic OCS indicates it is a natural gas province. For example in the 1970s, there was a natural gas discovery off the coast of Atlantic City, New Jersey. Natural gas production accidents do not yield oil and tar balls. A better hypothetical would be beach closures from hurricanes and nor'easters. The respondents should be familiar with these kinds of events.

Response: These hypothetical beach closure questions have been dropped altogether.

Comment: There is a question asking for personal annual income from working. There are many who have considerable income without working. Is it the intent not to capture this information? They have the time and the resources to be frequent ocean beach users.

Response: The income question has been changed to read: “Which category is closest to your personal annual income before taxes?”

Comment: The stratum sample sizes for the survey gives the appearance of being arbitrary. Consider that New Jersey & Delaware has a stratum of population of 8.8 million with a sample size of 200 participants. That works out to 22.73 participants per million. Compare to Pennsylvania 10.4 million population with 150 participants which is 14.42 participants per million. So citizens of Delaware are about 50% more likely to be selected as compared to Pennsylvania citizens. For full disclosure the University of Delaware is conducting the survey and I am a resident of Pennsylvania who is also a property owner in New Jersey. Further someone in Memphis, TN, is part of the survey universe, however someone living in Vermont is excluded. I have family members who live in Vermont and frequently visit the Jersey Shore.

Response: Based on this comment and comments from others we have redesigned the sampling strategy to include two separate samples: A General Population Sample and an Oversample Sample. The former is a random draw from all individuals in the 20 states in our region (now including Vermont, New Hampshire, Maine, and Georgia) and the latter is a random draw from all beachgoers in the same states. Since both of these samples are randomly drawn, the representation is proportional to state populations.

Comment: A good property of selected stratum is to have homogeneity within the stratum (http://en.wikipedia.org/wiki/Stratified_sampling). The use of New York state as a stratum fails this principal. There is Long Island which is the beach community. New York City a major city with near by ocean beaches. Up state New York has ocean beaches which are more distant. Does not make sense to put Hampton's and Buffalo in the same stratum!

Response: See comment to previous question. We no longer stratify by state.

Comment: The total sample size for the participants of 1,400 is reasonable for obtaining summary insights. The data collection includes attributes, such as distance to the beach, education, number of children, employment status and income. If this survey has a goal of obtaining insights at this kind of granular level then the sample size will need to be adjusted to meet these goals.

Response: Our budget limits us to the sample size we are using.

Comment: The statistical survey design should follow Dillman's Tailored Design Method (http://www.amazon.com/Internet-Phone-Mail-Mixed-Mode-Surveys/dp/1118456149/ref=dp_ob_title_bk). This is the approach that is being used by BOEM in Alaska in the Arctic Communities Survey.

Response: Our survey follows Dillman's method fairly closely. It may depart in a few instances based on our own judgment calls, but it is largely based on Dillman.

Comment: The commenter made the following recommendations:

• Establish clear goals for the information collection, which then drives the design.

• Use Dillman's Tailored Design Method.

• Create stratums that are approximately homogeneous. Suggested stratums: Near Ocean Beaches (SC coast, Outer Banks, Tidewater VA, Delmarva, Jersey shore, Long Island, Rhode Island, Cape Cod), Metro Areas (Washington, Baltimore, Philadelphia, New York City, Boston metro areas), Inland (Other parts of SC, NC, VA, MD, Central PA, NJ, CT, MA), Distant Areas (OH, WV, TN, KY, Western PA, Upstate NY, VT, NH).

• Use zip codes for location of respondents.

• Publish the raw data so it can be independently analyzed.

Response: We addressed most of the recommendations in our responses. As noted, our survey was designed with a specific economic model in mind—a travel cost model; we use Dillman's approach fairly closely, but not always; we no longer stratify by geography; and we will use zip codes for location of the respondents. In addition, we plan to publish the raw data.

Public Availability of Comments: Before including your address, phone number, email address, or other personal identifying information in your comment, you should be aware that your entire comment—including your personal identifying information—may be made publicly available at any time. While you can ask us in your comment to withhold your personal identifying information from public review, we cannot guarantee that we will be able to do so.

Dated: October 1, 2015.
Deanna Meyer-Pietruszka,
Chief, Office of Policy, Regulations, and Analysis.

[FR Doc. 2015-25971 Filed 10-15-15; 8:45 am]

BILLING CODE 4310-MR-P